ENVIRONMENTAL PROTECTION AGENCY

40 CFR Part 52

Air Plan Approval; Iowa; State Implementation Plan and Operating Permits Program

CFR Correction

In Title 40 of the Code of Federal Regulations, Part 52(§§ 52.01 to 52.1018), revised as of July 1, 2019, on page 1152, in § 52.820, in the table, the entry for Iowa citation 567-22.9 is reinstated to read as follows:

EPA-Approved Iowa Regulations
Iowa citation | Title | State effective date | EPA approval date | Explanation
* * * * * * *
567-22.9 | Special Requirements for Visibility Protection | 11/11/2009 | 10/25/2013, 78 FR 63887 |
* * * * * * *

[FR Doc. 2020-05998 Filed 3-19-20; 8:45 am]

BILLING CODE 1301-00-D